ENVIRONMENTAL PROTECTION AGENCY

[FRL-8220-1]

Notice of Disclosure of Confidential Business Information Obtained Under the Comprehensive Environmental Response, Compensation and Liability Act to EPA Contractor GRB Environmental Services, Inc.

AGENCY: Environmental Protection Agency (EPA).

ACTION: Notice; request for comment.

SUMMARY: EPA has authorized GRB Environmental Services Inc. of New York, New York, for access to Information which has been submitted to EPA under the environmental statues administered by the Agency. Some of this information may be claimed or determined to be confidential business information (CBI).

DATES: Comments concerning CBI access will be accepted through September 22, 2006.

ADDRESSES: Comments should be sent to Philip Ingram, Contracting Officer, Environmental Protection Agency Mail Code: MTS-4-3, 75 Hawthorne Street, San Francisco, CA 94105. Telephone: (415) 972-3715.

Notice of Required Determinations, Contract Provisions and Opportunity To Comment

Under EPA contract number: EP-R9-06-03, GRB Environmental Services Inc. provides records management support services to the Environmental Protection Agency Region 9. In performing these tasks, GRB Environmental Services Inc. employees have access to agency documents for purposes of document processing, filing, abstracting, analyzing, inventorying, retrieving, tracking, etc. The documents to which GRB Environmental Services Inc. have access to can potentially include documents submitted under the Resource Conservation and Recovery Act and Comprehensive Environmental Response, Compensation, and Liability Act.

Some of these documents may contain information claimed as CBI. GRB Environmental Services Inc. is required by contract to protect confidential information. When GRB's need for the documents is completed, GRB will return them to EPA.

Dated: August 23, 2006.
Keith Takata,
Director, Superfund Division, Region IX.

[FR Doc. E6-15336 Filed 9-14-06; 8:45 am]

BILLING CODE 6560-50-P